DEPARTMENT OF VETERANS AFFAIRS

[OMB Control No. 2900-0872]

Agency Information Collection Activity Under OMB Review: Expanded Access to Non-VA Care Through the MISSION Program: Establishing a Process for Certification, Discontinuance, and Disputes for Veterans Care Agreements (VCAs)

AGENCY: Veterans Health Administration, Department of Veterans Affairs.

ACTION: Notice.

SUMMARY: In compliance with the Paperwork Reduction Act (PRA) of 1995, this notice announces that the Veterans Health Administration, Department of Veterans Affairs, will submit the collection of information abstracted below to the Office of Management and Budget (OMB) for review and comment. The PRA submission describes the nature of the information collection and its expected cost and burden, and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0872.

FOR FURTHER INFORMATION CONTACT: Danny S. Green, Office of Quality, Performance and Risk (OQPR), Department of Veterans Affairs, 810 Vermont Avenue NW, Washington, DC 20420, (202) 421-1354 or email danny.green2@va.gov Please refer to “OMB Control No. 2900-0872” in any correspondence.

SUPPLEMENTARY INFORMATION:

Authority: 44 U.S.C. 3501-21.

Title: Expanded Access to Non-VA Care Through the MISSION Program: Establishing a Process for Certification, Discontinuance, and Disputes for Veterans Care Agreements (VCAs)

OMB Control Number: 2900-0872.

Type of Review: Extension of a currently approved collection.

Abstract: Section 102 of the VA Maintaining Internal Systems and Strengthening Integrated Outside Networks (MISSION) Act of 2018 (Pub. L. 115-182) authorizes VA to enter into Veterans Care Agreements (VCAs) to furnish required care and services when such care and services are not feasibly available to certain individuals through a VA facility, a contract, or a sharing agreement. VA seeks to establish a new collection to implement three requirements under section 102 of the MISSION Act:

a. Certification: Eligible entities and providers will be required to submit to VA information concerning relevant credentials, licenses, and other information as requested by VA to evaluate eligibility for certification. The information to be collected is authorized by 38 U.S.C. 1703A(c).

b. Discontinuation: Eligible entities and providers would be required to submit to VA a written notice of intent to discontinue a Veterans Care Agreement prior to the date of such discontinuation. The information to be collected is authorized by 38 U.S.C. 1703A(f)(1).

c. Disputes: Eligible entities and providers would be required to submit to VA written notices of dispute that contain specific information to allow VA to assess and resolve the matter in dispute. The information to be collected is authorized by 38 U.S.C. 1703A(h).

An agency may not conduct or sponsor, and a person is not required to respond to, a collection of information unless it displays a currently valid OMB control number. The Federal Register Notice with a 60-day comment period soliciting comments on this collection of information was published at 84 FR 205 on October 23, 2019, pages 56890 and 56891.

Certification

Affected Public: Private Sector.

Estimated Annual Burden: 1,263 hours.

Estimated Average Burden per Respondent: 5 minutes.

Frequency of Response: Once annually.

Estimated Number of Respondents: 15,152.

Discontinuation

Affected Public: Private Sector.

Estimated Annual Burden: 25 hours.

Estimated Average Burden per Respondent: 10 minutes.

Frequency of Response: Once annually.

Estimated Number of Respondents: 152.

Disputes

Affected Public: Private Sector.

Estimated Annual Burden: 268 hours.

Estimated Average Burden per Respondent: 20 minutes.

Frequency of Response: Once annually.

Estimated Number of Respondents: 803.

By direction of the Secretary.
Danny S. Green,
Interim VA Clearance Officer, Office of Quality, Performance and Risk (OQPR), Department of Veterans Affairs.

[FR Doc. 2020-26065 Filed 11-24-20; 8:45 am]

BILLING CODE 8320-01-P